DEPARTMENT OF COMMERCE

National Oceanic and Atmospheric Administration

50 CFR Part 679

[Docket No. 030808196-3197-02; I. D. 081103B]

RIN 0648-AR42

Fisheries of the Exclusive Economic Zone Off Alaska; Provisions of the American Fisheries Act (AFA)

AGENCY: National Marine Fisheries Service (NMFS), National Oceanic and Atmospheric Administration (NOAA), Commerce.

ACTION: Final rule: effectiveness of collection-of-information requirements.

SUMMARY: NMFS announces approval by the Office of Management and Budget (OMB) of collection-of-information requirements contained in the following American Fisheries Act (AFA)-related amendments: Amendment 61 to the Fishery Management Plan (FMP) for the Groundfish Fishery of the Bering Sea and Aleutian Islands (BSAI) Area, Amendment 61 to the FMP for Groundfish of the Gulf of Alaska, Amendment 13 to the FMP for BSAI King and Tanner Crab, and Amendment 8 to the FMP for the Scallop Fishery off Alaska (collectively referred to as Amendment 61/61/13/8), and in Amendment 69 to the FMP for the Groundfish Fishery of the BSAI Area, and issues a final rule to make effective the collections of information contained in those amendments. The collections provide that if an AFA cooperative contract was previously filed with NMFS and the North Pacific Fishery Management Council (Council), a renewal letter may be submitted to NMFS and the Council in lieu of the cooperative contract and business review letter. Each AFA cooperative contract must include a clause that the parties agree to make payments to the State of Alaska for any pollock harvested in the directed pollock fishery that are not landed in the State of Alaska; and an AFA cooperative may contract with a non-member vessel to harvest a portion of the cooperative's annual pollock allocation. The intent of this final rule is to inform the public of the effective date of the requirements.

DATES: Sections 679.61(d)(1) and (d)(2), and § 679.61(e)(1)(v), published at 67 FR 79692 (December 30, 2002), and § 679.62(c), published at 68 FR 6833 (February 11, 2003), are effective on September 24, 2003.

ADDRESSES: Any comments regarding burden-hour estimates for collection-of-information requirements contained in this final rule should be sent to Lori Durall, NMFS, Alaska Region, P.O. Box 21668, Juneau, AK 99802, phone: 907-586-7247, email: lori.durall@noaa.gov and to OMB, Office of Information and Regulatory Affairs, Office of Management and Budget, Washington, DC 20503 (Attn: NOAA Desk Officer).

FOR FURTHER INFORMATION CONTACT: Patsy A. Bearden, NMFS, 907-586-7228 or e-mail at patsy.bearden@noaa.gov.

SUPPLEMENTARY INFORMATION: A final rule that implemented the measures contained in Amendment 61/61/13/8 was published in the Federal Register on December 30, 2002 (67 FR 79692), and most of the measures were effective January 29, 2003. A final rule that implemented the measures contained in Amendment 69 was published in the Federal Register on February 11, 2003 (68 FR 6833), and most of the measures were effective March 13, 2003. However, because OMB approval of the reporting requirements contained in these amendments had not yet been received as of the effective date of each rule, effectiveness of the requirements contained in the amendments was delayed.

OMB approval for those measures was received on July 14, 2003. No comments were received in response to this review. Consequently, this rule makes the following requirements effective:

OMB 0648-0393, AFA Vessel and Processor Permit Applications. Approval of this collection included: § 679.61(d)(1) and (d)(2), cooperative contract renewal letter, and § 679.61(e)(1)(v), contract clause regarding payments to the State of Alaska, codified in the final rule published on December 30, 2002 (67 FR 79692).

OMB 0648-0401, American Fisheries Act: Recordkeeping and Reporting. Approval of this collection included § 679.62(c), contract fishing by non-member vessels, codified in the final rule published on February 11, 2003 (68 FR 6833).

Classification

This rule has been determined to be not significant for the purposes of Executive Order 12866.

Notwithstanding any other provision of the law, no person is required to respond to, nor shall any person be subject to a penalty for failure to comply with, a collection of information subject to the requirements of the PRA, unless that collection of information displays a currently valid OMB control number.

This rule contains collection-of-information requirements subject to the PRA that have been approved by OMB under control numbers 0648-0393 (AFA Vessel and Processor Permit Applications) and 0648-0401 (American Fisheries Act: Recordkeeping and Reporting). The estimated time per response to submit a cooperative contract renewal letter and a contract clause regarding payments to the State of Alaska is estimated as part of the permit process (0648-0393), which is 2.5 hours. The estimated time per response to contract fishing by non-member vessels (0648-0401) is 30 minutes.

The estimated response time includes the time needed for reviewing instructions, searching existing data sources, gathering and maintaining the data needed, and completing and reviewing the collection of information. Send comments regarding these reporting burden estimates or any other aspect of the collection-of-information, including suggestions for reducing the burden, to NMFS and OMB (see ADDRESSES).

Authority: 16 U.S.C. 1801 et seq.

Dated: August 15, 2003.
William T. Hogarth,
Assistant Administrator for Fisheries, National Marine Fisheries Service.

[FR Doc. 03-21451 Filed 8-22-03; 8:45 am]

BILLING CODE 3510-22-S